FEDERAL MINE SAFETY AND HEALTH REVIEW COMMISSION

Sunshine Act Meeting

January 29, 2015.

TIME AND DATE: 10:00 a.m., February 10, 2015.

PLACE: The Richard V. Backley Hearing Room, Room 511N, 1331 Pennsylvania Avenue NW., Washington, DC 20004 (enter from F Street entrance).

STATUS: Closed.

MATTERS TO BE CONSIDERED: It was determined by a unanimous vote of the Commissioners that the Commission consider and act upon the following in closed session: Brody Mining, LLC v. Secretary of Labor, Docket Nos. WEVA 2014-82-R, et al. (Issues include whether to grant or deny the Secretary of Labor's Emergency Motion for Stay of ALJ's Order Dismissing Pattern-of-Violations Notice.) A certification regarding the closure of the meeting will be placed on the Commission's Web site (www.fmshrc.gov). Commission employees shall not attend this meeting unless they have been assigned to work on this case with Commissioners.

CONTACT PERSON FOR MORE INFO: Emogene Johnson (202) 434-9935/(202) 708-9300 for TDD Relay/1-800-877-8339 for toll free.

Sarah L. Stewart,
Deputy General Counsel.

[FR Doc. 2015-02076 Filed 1-29-15; 4:15 pm]

BILLING CODE 6735-01-P